DEPARTMENT OF TRANSPORTATION

Federal Aviation Administration

14 CFR Part 73

[Docket No. FAA-2016-9536; Airspace Docket No. 16-AWP-27]

RIN 2120-AA66

Proposed Establishment of Temporary Restricted Areas R-2509E, R-2509W, and R-2509N; Twentynine Palms, CA

AGENCY: Federal Aviation Administration (FAA), DOT.

ACTION: Notice of proposed rulemaking (NPRM).

SUMMARY: This action proposes to establish temporary restricted areas R-2509E, R-2509W, and R-2509N, Twentynine Palms, CA, to support a Marine Expeditionary Brigade level Large Scale Exercise (LSE) planned for existing and newly acquired training lands at Marine Corps Air Ground Combat Center (MCAGCC), Twentynine Palms from August 7 to August 26, 2017.

DATES: Comments must be received on or before April 10, 2017.

ADDRESSES: Send comments on this proposal to the U.S. Department of Transportation, Docket Operations, 1200 New Jersey Avenue SE., West Building Ground Floor, Room W12-140, Washington, DC 20590-0001; telephone: 1(800) 647-5527, or (202) 366-9826. You must identify FAA Docket No. FAA-2016-9536 and Airspace Docket No. 16-AWP-27 at the beginning of your comments. You may also submit comments through the Internet at http://www.regulations.gov.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would establish the temporary restricted area airspace at Twentynine Palms, CA, to accommodate essential United States Marine Corps training requirements and to ensure the safety of aircraft otherwise permitted to operate in the area.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9536 and Airspace Docket No. 16-AWP-27) and be submitted in triplicate to the Docket

Management System (see ADDRESSES section for address and phone number). You may also submit comments through the Internet at www.regulations.gov.

Commenters wishing the FAA to acknowledge receipt of their comments on this action must submit with those comments a self-addressed, stamped postcard on which the following statement is made: “Comments to FAA Docket No. FAA-2016-9536 and Airspace Docket No. 16-AWP-27.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov. Recently published rulemaking documents can also be accessed through the FAA's Web page at http://www.faa.gov/air_traffic/publications/airspace_amendments/.

You may review the public docket containing the proposal, any comments received and any final disposition in person at the Dockets Office (see ADDRESSES section for address and phone number) between 9:00 a.m. and 5:00 p.m., Monday through Friday, except Federal holidays. An informal docket may also be examined during normal business hours at the office of the Operations Support Group, Western Service Center, Federal Aviation Administration, 1601 Lind Ave SW., Renton, WA 98057.

Background

Marine Corps combat readiness depends on the continued availability of ranges and training areas that provide realistic, mission-oriented training and exercises. Marine Corps training proceeds on a continuum, from entry-level training of individual Marines in basic military skills to large-scale exercises involving a Marine Air Ground Task Force (MAGTF). Currently, the Marine Corps does not have sufficient range space to conduct a Marine Expeditionary Brigade (MEB) level live fire exercise. Through careful analysis and a series of studies, MCAGCC Twentynine Palms was identified as the only Marine Corps installation capable of expansion to the dimensions required to support this level of exercise. Acquisition of new lands without the requisite special use airspace (SUA) would not allow for the training events required to successfully execute this essential exercise. Consequently, a new restricted area, military operations areas (MOA) and air traffic control-assigned airspace are being developed as a critical element of the required expansion to support large scale MEB level exercises and those supporting building block training events.. The establishment of temporary restricted area R-2509E, W, and N, will substantially enhance both the capability and capacity of the MCAGCC Twentynine Palms Range and Training Areas (RTA) to conduct required training for an MEB large scale exercise.

The Proposal

This proposal would establish new temporary restricted areas R-2509E, R-2509W, and R-2509N for the period from August 7 to August 26, 2017, to accommodate live fire from pistols, rifles, machine guns, anti-tank weapons, mortars, artillery, Unmanned Aircraft Systems, fixed wing, and rotary wing training activities including close air support and live ordnance delivery. This proposed temporary restricted area is required to effectively deconflict Department of Defense and all other air traffic from hazards associated with live fire training.

Based on impacts mitigation coordinated with the Los Angeles Air Route Traffic Control Center, the maximum altitude will be FL 220 generally. However, at certain times for a period of 4 hours on 2 days of the exercise, the maximum altitude will be FL400. R-2509W would have a ceiling of 8,000 feet MSL and R-2509N would have a ceiling of 16,000 feet MSL. Supersonic flight will not be conducted as part of the above aviation training activities.

The times of use for R-2509E, R-2509W, and R-2509N would be by NOTAM, and activations of R-2509E above FL220 would have the NOTAM issued 48 hours in advance. Expected usage would be 12 hours per day for 10 days up to 16,000 feet and 16 hours per day for 6 days up to FL220.

The lateral boundaries of the proposed areas would be as follows:

Temporary R-2509E—Beginning at lat. 34°40′30″ N., long. 116°29′43″ W., to lat. 34°36′00″ N., long. 116°28′03″ W.; to lat. 34°31′30″ N., long. 116°26′48″ W.; to lat. 34°30′00″ N., long. 116°26′23″ W.; to lat. 34°21′35″ N., long. 116°21′38″ W.; to lat. 34°19′30″ N., long. 116°20′29″ W.; to lat. 34°17′38″ N., long. 116°19′19″ W.; to lat. 34°22′25″ N., long. 116°31′10″ W.; to lat. 34°34′17″ N., long. 116°35′52″ W.; to the point of beginning.

Temporary R-2509W—Beginning at lat. 34°35′03″ N., long. 116°36′10″ W.; to lat. 34°22′25″ N., long. 116°31′10″ W.; to lat. 34°27′38″ N., long. 116°40′34″ W.; to lat. 34°27′59″ N., long. 116°42′51″ W.; to lat. 34°29′44″ N., long. 116°42′51″ W.; to the point of beginning.

Excluding that airspace within a 3.4-mile radius of point in space coordinates at lat. 34°25′32″ N., long. 116°36′52″ W.; surface to 1,500 feet AGL.

Temporary R-2509N—Beginning at lat. 34°35′03″ N., long. 116°36′10″ W.; to lat. 34°40′30″ N., long. 116°29′43″ W.; to lat. 34°34′17″ N., long. 116°35′52″ W.; to the point of beginning.

These temporary restricted areas would automatically expire on August 26, 2017.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.25 California [Amended]

2. § 73.25 is amended as follows:

* * * * *

R-2509E Twentynine Palms, CA [New]

Boundaries. Beginning at lat. 34°40′30″ N., long. 116°29′43″ W.; to lat. 34°36′00″ N., long. 116°28′03″ W.; to lat. 34°31′30″ N., long. 116°26′48″ W.; to lat. 34°30′00″ N., long. 116°26′23″ W.; to lat. 34°21′35″ N., long. 116°21′38″ W.; to lat. 34°19′30″ N., long. 116°20′29″ W.; to lat. 34°17′38″ N., long. 116°19′19″ W.; to lat. 34°22′25″ N., long. 116°31′10″ W.; to lat. 34°34′17″ N., long. 116°35′52″ W.; to the point of beginning.

Designated altitudes. Surface to FL 400.

Time of designation. Intermittent by NOTAM during the period from August 7 to August 26, 2017.

Controlling agency. FAA, Los Angeles Air Route Traffic Control Center.

Using agency. Commanding General, Marine Corps Air Ground Combat Center (MCAGCC), Twentynine Palms, CA.

R-2509W Twentynine Palms, CA [New]

Boundaries. Beginning at lat. 34°35′03″ N., long. 116°36′10″ W.; to lat. 34°22′25″ N., long. 116°31′10″ W.; to lat. 34°27′38″ N., long. 116°40′34″ W.; to lat. 34°27′59″ N., long. 116°42′51″ W.; to lat. 34°29′44″ N., long. 116°42′51″ W.; to the point of beginning.

Excluding that airspace within a 3.4-mile radius of point in space at lat. 34°25′32″ N., long. 116°36′52″ W.; surface to 1,500 feet AGL.

Designated altitudes. Surface to 8,000 feet MSL.

Time of designation. Intermittent by NOTAM during the period from August 7 to August 26, 2017.

Controlling agency. FAA, Los Angeles Air Route Traffic Control Center.

Using agency. Commanding General, Marine Corps Air Ground Combat Center (MCAGCC), Twentynine Palms, CA.

R-2509N Twentynine Palms, CA [New]

Boundaries. Beginning at lat. 34°35′03″ N., long. 116°36′10″ W.; to lat. 34°40′30″ N., long. 116°29′43″ W.; to lat. 34°34′17″ N., long. 116°35′52″ W.; to the point of beginning.

Designated altitudes. Surface to 16,000 feet MSL.

Time of designation. Intermittent by NOTAM during the period from August 7 to August 26, 2017.

Controlling agency. FAA, Los Angeles Air Route Traffic Control Center.

Using agency. Commanding General, Marine Corps Air Ground Combat Center (MCAGCC), Twentynine Palms, CA.

Issued in Washington, DC on February 7, 2017.
Leslie M. Swann,
Acting Manager, Airspace Policy Group.

[FR Doc. 2017-03535 Filed 2-22-17; 8:45 am]

BILLING CODE 4910-13-P